DEPARTMENT OF DEFENSE

Department of the Navy

Privacy Act of 1974; System of Records

AGENCY: Department of the Navy, DoD.

ACTION: Notice to amend records system.

SUMMARY: The Department of the Navy proposes to amend two systems of records notices in its inventory of record systems subject to the Privacy Act of 1974 (5 U.S.C. 552a), as amended.

DATES: The amendments will be effective on June 6, 2002, unless comments are received that would result in a contrary determination.

ADDRESSES: Send comments to Department of the Navy, PA/FOIA Policy Branch, Chief of Naval Operations, DNS10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend a system of records notice in its inventory of record systems subject to the Privacy Act of 1974 (5 U.S.C. 552a), as amended. The changes to the system of records are not within the purview of subsection (r) of the Privacy Act of 1974 (5 U.S.C. 552a), as amended, which requires the submission of new or altered systems reports. The records system being amended is set forth below, as amended, published in its entirety.

Dated: April 29, 2002.
Patricia L. Toppings,
Alternate OSD Federal Register Liaison Officer, Department of Defense.

N12630-1

System name:

Voluntary Leave Transfer Program Records (July 13, 2000, 65 FR 43307).

Changes:

* * * * *

System manager(s) and address:

Delete first paragraph and replace with ‘Policy official: Office of Civilian Human Resources, Nebraska Avenue Complex, 321 Somers Court NW, Suite 40101, Washington, DC 20393-5451.’

* * * * *

Record source categories:

Delete entry and replace with ‘Employee, supervisors, co-workers or other agency or contractor-employee personnel, and private individuals to include family members of employee and outside practitioners.’

* * * * *

N12630-1

System name:

Voluntary Leave Transfer Program Records.

System location:

Navy Human Resources Offices. Official mailing addresses are published as an appendix to the Navy’s compilation of systems of records notices.

Categories of individuals covered by the system:

Individuals who have volunteered to participate in the leave transfer program as either a donor or recipient.

Categories of records in the system:

Separate files exist for leave recipients and leave donors records.

Leave recipients records contain the individual's name, organization, office telephone number, Social Security Number, position title, grade, pay level, leave balance, number of hours requested, brief description of the medical or personal hardship which qualifies the individual for inclusion in the program, the status of that hardship, and a statement that selected data elements may be used in soliciting donations. The file may also contain medical or physician certifications and agency approvals or denials.

Leave donors records contain the individual's name, organization, office telephone number, Social Security Number, position title, grade, and pay level, leave balance, number of hours donated and the name of the designated recipient.

Authority for maintenance of the system:

5 U.S.C. 301, Departmental Regulations; 5 U.S.C. 6331 et seq. (Leave); E.O. 9397 (SSN); and 5 CFR part 630.

Purpose(s):

To manage the Department of the Navy's Voluntary Leave Transfer Program. The recipient's name, position data, organization, and brief hardship description are published internally for passive solicitation purposes. The Social Security Number is sought to effectuate the transfer of leave by human resources and pay offices from the donor's account to the recipient's account.

Routine uses of records maintained in the system, including categories of users and the purposes of such uses:

In addition to those disclosures generally permitted under 5 U.S.C. 552a(b) of the Privacy Act, these records or information contained therein may specifically be disclosed outside the DoD as a routine use pursuant to 5 U.S.C. 522a(b)(3) as follows:

To the Department of Labor in connection with a claim filed by an employee for compensation due to a job-connected injury or illness, when leave donor and leave recipient are employed by different Federal agencies.

The DoD ‘Blanket Routine Uses’ that appear at the beginning of the Navy's compilation of systems of records notices apply to this system.

Policies and practices for storing, retrieving, accessing, retaining, and disposing of records in the system:

Storage:

Paper and automated records.

Retrievability:

Name/Social Security Number of leave recipient for access to their files. Name/Social Security Number of leave donor for access to their files.

Safeguards:

Access to records is limited to the custodian of the records or by persons responsible for servicing the records in the performance of their official duties. Records are stored in locked cabinets or rooms and are controlled by personnel screening. Computer terminals are located in supervised areas. Access to computerized data is controlled by password or other user code systems.

Retention and disposal:

Records are destroyed one year after the end of the year in which the file is closed.

System manager(s) and address:

Policy official: Office of Civilian Human Resources, Nebraska Avenue Complex, 321 Somers Court NW, Suite 40101, Washington, DC 20393-5451.

Record holder: Director of local Human Resources Offices. Official mailing addresses are published as an appendix to the Navy's compilation of systems of records.

Notification procedure:

Individuals seeking to determine whether this system contains information about themselves should address written inquires to their servicing Human Resources Office. Official mailing addresses are published as an appendix to the Navy's compilation of systems of record.

The request should contain the name, approximate date during which the case record was developed, the address of the individual concerned and should be signed.

Record access procedures:

Individuals seeking access to information about them contained in this system of records should address written inquiries to their servicing Human Resources Office. Official mailing addresses are published as an appendix to the Navy's compilation of systems of records.

The request should contain the name, approximate date during which the case record was developed, the address of the individual concerned and should be signed.

Contesting record procedures:

The Navy's rules for accessing records, and for contesting contents and appealing initial agency determinations are published in Secretary of the Navy Instruction 5211.5; 32 CFR part 701; or may be obtained from the system manager.

Record source categories:

Employee, supervisors, co-workers or other agency or contractor-employee personnel, and private individuals to include family members of employee and outside practitioners.

Exemptions claimed for the system:

None.

N12792-7

System name:

Drug-Free Workplace Program Records (February 8, 2000, 65 FR 6184).

Changes

* * * * *

System location:

Delete entry and replace with Records are located at the local naval activity, the local servicing Human Resources Offices, the Human Resource Service Center Regional Offices Regional Offices, or the Office of Civilian Human Resources.'

* * * * *

Authority for maintenance of the system:

Delete entry and replace with “Pub.L. 100-71, 5 U.S.C. 7301; 21 U.S.C. 812 (Schedule of Controlled Substances); E.O. 12564, Drug-Free Federal Workplace; E.O. 9397 (SSN); and Department of Health and Human Services Mandatory Guidelines for Federal Workplace Drug Testing Programs.

* * * * *

Retention and disposal:

Delete entry and replace with “Negative test records are retained for three years and then destroyed by shredding, burning, or erasure in the case of electronic media. Positive or Non-negative test records are permanently retained. Written records and test results together with urine specimens shall be retained until litigation is complete when the employee challenges or appeals adverse actions. Negative urine specimens are disposed of at the end of the test day.”

* * * * *

N12792-7

System name:

Drug-Free Workplace Program Records.

System location:

Records are located at the local naval activity, the local servicing Human Resources Offices, the Human Resource Service Center Regional Offices Regional Offices, or the Office of Civilian Human Resources.

Categories of individuals covered by the system:

Civilian employees and applicants for employment with the Department of the Navy.

Categories of records in the system:

Records related to selection, notification, testing of employees and applicants, urine specimens, drug test results, collection authentication and chain of custody documents.

Authority for maintenance of the system:

Pub.L. 100-71, 5 U.S.C. 7301; 21 U.S.C. 812 (Schedule of Controlled Substances); and E.O. 12564, Drug-Free Federal Workplace; E.O. 9397 (SSN); and Department of Health and Human Services Mandatory Guidelines for Federal Workplace Drug Testing Programs.

Purpose(s):

The system is established to maintain records relating to the selection and testing of Department of the Navy employees, and applicants for employment, for use of illegal drugs and drugs identified in Schedules I and II of 21 U.S.C. 812 (Schedule of Controlled Substances).

The records are also used by the Medical Review Officer; the administrator of any Employee Assistance Program in which the employee is receiving counseling or treatment or is otherwise participating; and supervisory or management officials within the employee's agency having authority to take adverse personnel action against such employee.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

In order to comply with the provisions of 5 U.S.C. 7301, the DoD “Blanket Routine Uses” published at the beginning of the Navy's compilation do not apply to this system.

To a court of competent jurisdiction where required by the United States Government to defend against any challenge against any adverse personnel action.

Note: Record of the identity, diagnosis, prognosis, or treatment of any client/patient, irrespective of whether or when he ceases to be a client/patient, maintained in connection with the performance of any alcohol or drug abuse prevention and treatment function conducted, regulated, or directly or indirectly assisted by any department or agency of the United States, shall, except as provided therein, be confidential and be disclosed only for the purposes and under the circumstances expressly authorized in 42 U.S.C. 290dd-2. The results of a drug test of civilian employees may be disclosed only as expressly authorized under 5 U.S.C. 7301. These statutes take precedence over the Privacy Act of 1974, in regard to accessibility of such records except to the individual to whom the record pertains. The DoD “Blanket Routine Uses” do not apply to these types records.

Policies and practices for storing, retrieving, accessing, retaining, and disposing of records in the system:

Storage:

Records consist of written materials and/or electronic media.

Retrievability:

Records are retrieved by name of employee, applicant for employment, Social Security Number, specimen I.D. number assigned, or any combination of these.

Safeguards:

Records will be stored in secure containers, e.g., safes, locked filing cabinets, etc. Urine specimens will be stored in appropriate locked storage facilities. Access to such records and specimens is restricted. Chain-of-custody and other procedural and documentary requirements of Pub. L. 100-71 and the Department of Health and Human Services Guidelines will be followed in collection of urine samples, conducting drug tests, and processing test results. All information contained in computers is password protected.

Retention and disposal:

Negative test records are retained for three years and then destroyed by shredding, burning, or erasure in the case of electronic media. Positive or Non-negative test records are permanently retained. Written records and test results together with urine specimens shall be retained until litigation is complete when the employee challenges or appeals adverse actions. Negative urine specimens are disposed of at the end of the test day.

System manager(s) and address:

Policy and Record Holder: DON Drug Program Coordinator, Office of Civilian Human Resources, Nebraska Avenue Complex, 321 Somers Court NW, Suite 40101, Washington, DC 20393-5441.

Notification procedure:

Individuals seeking to determine whether this system contains information about themselves should address written inquiries to the Commanding Officer/Commander of the DON activity or the servicing human resources office at which they are or were employed, or at which they made application for employment, and for which they provided a urine specimen for drug testing.

Individuals may furnish their full name, Social Security Number, the title, series, and grade of the position they occupied or applied for when the drug test was conducted, specimen ID number, and the date of the test.

Record access procedures:

Individuals seeking access to information about themselves contained in this system of records should address written inquiries to the Commanding Officer/Commander of the DON activity or the servicing human resources office at which they are or were employed, or at which they made application for employment, and for which they provided a urine specimen for drug testing.

Individuals may furnish their full name, Social Security Number, the title, series, and grade of the position they occupied or applied for when the drug test was conducted, specimen ID number, and the date of the test.

Contesting record procedures:

The Navy's rules for accessing records, and for contesting contents and appealing initial agency determinations are published in Secretary of the Navy Instruction 5211.5; 32 CFR part 701; or may be obtained from the system manager.

Record source categories:

Records are obtained from the individual to whom the record pertains; DON or contractor employees involved in the selection, notification, and collection of urine from individuals who are tested; DON or contractor laboratories that test urine samples for the presence of illegal drugs, DON or contractor Medical Review Officers; supervisors and managers and other DON officials engaged in administering the Drug-Free Workplace Program; the Civilian Employee Assistance Program; processing adverse actions based on drug test results; and DON or contractor electronic databases.

Exemptions claimed for the system:

None.

[FR Doc. 02-10994 Filed 5-6-02; 8:45 am]

BILLING CODE 5001-08-U